FARM CREDIT ADMINISTRATION

12 CFR Part 652

RIN 3052-AC80

Federal Agricultural Mortgage Corporation Funding and Fiscal Affairs; Farmer Mac Capital Planning

AGENCY: Farm Credit Administration.

ACTION: Notice of effective date.

SUMMARY: The Farm Credit Administration (FCA or we) adopted a final rule that amends regulations governing operational and strategic planning of the Federal Agricultural Mortgage Corporation (Farmer Mac). Among other things, the final rule requires Farmer Mac to submit a capital plan to the Office of Secondary Market Oversight (OSMO) on an annual basis and requires Farmer Mac to notify OSMO under certain circumstances before making a capital distribution. The final rule revised the current capital adequacy planning requirements to place more emphasis on the quality and level of Farmer Mac's capital base and promote best practices for capital adequacy planning and stress testing. In accordance with the law, the effective date of the rule is 30 days from the date of publication in the Federal Register during which either or both Houses of Congress are in session.

DATES: Under the authority of 12 U.S.C. 2252, the regulation amending 12 CFR part 652 published on October 31, 2013 (78 FR 65145) is effective January 3, 2014.

FOR FURTHER INFORMATION CONTACT:

Joseph T. Connor, Associate Director for Policy and Analysis, Office of Secondary Market Oversight, Farm Credit Administration, McLean, VA 22102-5090, (703) 883-4280, TTY (703) 883-4056;

or

Rebecca S. Orlich, Senior Counsel, Office of General Counsel, Farm Credit Administration, McLean, Virginia 22102-5090, (703) 883-4020, TTY (703) 883-4056.

SUPPLEMENTARY INFORMATION: The Farm Credit Administration (FCA or we) adopted a final rule that amends regulations governing operational and strategic planning of the Federal Agricultural Mortgage Corporation (Farmer Mac). Among other things, the final rule requires Farmer Mac to submit a capital plan to the Office of Secondary Market Oversight (OSMO) on an annual basis and requires Farmer Mac to notify OSMO under certain circumstances before making a capital distribution. The final rule revised the current capital adequacy planning requirements to place more emphasis on the quality and level of Farmer Mac's capital base and promote best practices for capital adequacy planning and stress testing. In accordance with 12 U.S.C. 2252, the effective date of the interim rule is 30 days from the date of publication in the Federal Register during which either or both Houses of Congress are in session. Based on the records of the sessions of Congress, the effective date of the regulations is January 3, 2014.

(12 U.S.C. 2252(a)(9) and (10))

Dated: January 13, 2014.
Dale L. Aultman,
Secretary, Farm Credit Administration Board.

[FR Doc. 2014-00892 Filed 1-16-14; 8:45 am]

BILLING CODE 6705-01-P